DEPARTMENT OF COMMERCE

International Trade Administration

Commercial Service; Proposed Information Collection; Comment Request; User Satisfaction Surveys

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 30, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Susan Crawford, phone: 202-482-2050, e-mail: Susan.Crawford@mail.doc.gov, fax: 202-482-2599.

SUPPLEMENTARY INFORMATION:

I. Abstract

The Commercial Service (CS) requests a revision to the currently approved collection for User Satisfaction Surveys associated with the following export assistance programs and services:

• Export counseling,

• Pay-for-use export services such as matchmaking and due diligence,

• Trade promotion and educational events such as trade fairs, seminars and Webinars,

• Trade Information Call Center,

• Advocacy services.

The CS is mandated to provide export assistance to U.S. firms and the feedback obtained from the User Satisfaction Surveys is crucial to ensuring that clients are provided with effective and appropriate export services. This feedback enables CS to improve services to better meet the needs of their clients.

Clients that work with the CS have the opportunity to provide feedback via an electronic link to a comment card at the completion of each pay-for-use service, trade promotion event and advocacy case.

CS would also like to provide clients with the opportunity to give feedback at any time during the course of their working relationship with a CS trade specialist. CS proposes to revise their information collection by providing a feedback opportunity to their clients via a comment card link in a tagline at the bottom of CS staff's e-mail messages.

II. Method of Collection

Comment cards (sent to a client after the completion of a pay-for-use export service, trade promotion event or educational seminar/Webinar, and advocacy case) in an e-mail message delivering a hot link to a Web enabled survey. If the client does not respond to the survey within two weeks, another e-mail reminder is sent to the client.

The e-mail tagline comment card will also be a link to a Web enabled survey.

An automated telephone survey will be used for the Trade Information Call Center survey, so that callers can immediately respond without having to provide their e-mail address.

III. Data

OMB Control Number: 0625-0217.

Form Number(s): ITA-4107.

Type of Review: Regular submission.

Affected Public: Business or other for-profit organizations.

Estimated Number of Respondents: 20,000.

Estimated Time per Response: 5 minutes.

Estimated Total Annual Burden Hours: 1,667.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 26, 2009.
Gwellnar Banks,
Management Analyst, Office of the Chief Information Officer.

[FR Doc. E9-1900 Filed 1-28-09; 8:45 am]

BILLING CODE 3510-FP-P